DEPARTMENT OF ENERGY

Federal Energy Regulatory Commission

[Docket No. RP00-571-002]

Reliant Energy Gas Transmission Company; Notice of Proposed Changes in FERC Gas Tariff

January 30, 2001.

Take notice that on January 25, 2001, Reliant Energy Gas Transmission Company (REGT) tendered for filing as part of its FERC Gas Tariff, Fifth Revised Volume No. 1, the tariff sheets listed on Appendix A to the filing, to be effective on February 1, 2001.

REGT states that the purpose of this filing is to make modifications to its tariff to permit flexible nomination procedures to become effective, consistent with the Commission's Order dated November 8, 2000 in the above-reference proceeding.

REGT states that a copy of this filing has been mailed to its customers and interested state commissions.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments and protests may be filed electronically via the internet in lieu of paper. See 18 CFR 385.2001(a)(1)(iii) and the instructions on the Commission's web site at http://www.ferc.fed.us/efi/doorbell.htm.

David P. Boergers,
Secretary.

[FR Doc. 01-2926 Filed 2-2-01; 8:45 am]

BILLING CODE 6717-01-M